FEDERAL COMMUNICATIONS COMMISSION

47 CFR Part 97

[WT Docket No. 09-209; Report No. 2926]

Petition for Reconsideration of Action of Rulemaking Proceeding

AGENCY: Federal Communications Commission.

ACTION: Petition for reconsideration.

SUMMARY: In this document, a Petition for Reconsideration (Petition) has been filed in the Commission's Rulemaking proceeding listed in this document (Amendment of the Amateur Service Rules Governing Vanity and Club Station Call Signs). In the Rulemaking proceeding, the Commission amended the rules governing amateur radio service vanity and club station call signs to, among other things, limit club stations to holding one vanity call sign and limit individuals to serving as the trustee for one club. ARRL, the national association for Amateur Radio, formerly known as the American Radio Relay League, Inc. (ARRL), filed a Petition for Reconsideration arguing that the rule amendments adopted by the Commission are capable of being evaded, and thus do not fully effectuate the Commission's intent of preventing individuals from using club station licenses to hoard vanity call signs. ARRL proposes alternate regulatory language that it believes would better prevent hoarding of vanity call signs.

DATES: Oppositions to the Petitions must be filed by April 7, 2011. Replies to an opposition must be filed April 18, 2011.

ADDRESSES: Federal Communications Commission, 445 12th Street, SW., Washington, DC 20554.

FOR FUTHER INFORMATION CONTACT: Scot Stone, Wireless Competition Bureau, 202-418-0638.

SUPPLEMENTARY INFORMATION: This is a summary of Commission's document, Report No. 2926, released February 15, 2011. The full text of this document is available for viewing and copying in Room CY-B402, 445 12th Street, SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

This document published pursuant to 47 CFR 1.429(e). See 1.4(b)(1) of the Commission's rules (47 CFR 1.4(b)(1)).

Subject: In the Matter of Amendment of the Amateur Service Rules Governing Vanity and Club Station Call Signs (WT Docket No. 09-209); Petition for Rule Making: Amateur Radio Service (Part 97); Petition to change Part 97.19(c)(2) of the Amateur Radio Service Rules.

Number of Petitions Filed: 1.

Federal Communications Commission.
Marlene H. Dortch,
Secretary, Office of the Secretary, Office of Managing Director.

[FR Doc. 2011-5523 Filed 3-22-11; 8:45 am]

BILLING CODE 6712-01-P